DEPARTMENT OF HEALTH AND HUMAN SERVICES

Centers for Disease Control and Prevention

Disease, Disability, and Injury Prevention and Control Special Emphasis Panel (SEP): Data Coordinating Center for Autism and Other Developmental Disabilities Surveillance and Epidemiological Research Program Announcement 04014

In accordance with section 10(a)(2) of the Federal Advisory Committee Act (Pub. L. 92-463), the Centers for Disease Control and Prevention (CDC) announces the following meeting:

Name: Disease, Disability, and Injury Prevention and Control Special Emphasis Panel (SEP): Data Coordinating Center for Autism and Other Developmental Disabilities Surveillance and Epidemiological Research Program Announcement 04014.

Times and Dates: 8:45 a.m.-9:35 a.m., January 11, 2004 (Open); 10 a.m.-4:30 p.m., January 11, 2004 (Closed).

Place: Atlanta Airport Marriott, 4711 Best Road, College Park, GA 30337, Telephone (404) 766-7900.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Program Announcement 04014.

For Further Information Contact: John F. Hough, Dr.PH., National Institutes of Health/NIAAA 6000 Executive Boulevard, Willco Building, Bethesda, MD 20892, (301) 402-9371.

The Director, Management Analysis and Services Office, has been delegated the authority to sign Federal Register notices pertaining to announcements of meetings and other committee management activities, for both CDC and the Agency for Toxic Substances and Disease Registry.

Dated: December 4, 2003.
Alvin Hall,
Director, Management Analysis and Services Office, Centers for Disease Control and Prevention (CDC).

[FR Doc. 03-30955 Filed 12-15-03; 8:45 am]

BILLING CODE 4163-18-P